DEPARTMENT OF COMMERCE

International Trade Administration

[A-570-832]

Pure Magnesium From the People's Republic of China: Initiation of Antidumping Duty New Shipper Review

AGENCY: Import Administration, International Trade Administration, Department of Commerce.

SUMMARY: The Department of Commerce (the “Department”) has determined that a request for a new shipper review of the antidumping duty order on pure magnesium from the People's Republic of China (“PRC”), received on May 21, 2009, meets the statutory and regulatory requirements for initiation. The period of review (“POR”) of this new shipper review is May 1, 2008, through April 30, 2009.

DATES: Effective Date: June 30, 2009.

FOR FURTHER INFORMATION CONTACT: Lori Apodaca at (202) 482-4551, AD/CVD Operations, Office 8, Import Administration, International Trade Administration, U.S. Department of Commerce, 14th Street and Constitution Avenue, NW., Washington, DC 20230.

SUPPLEMENTARY INFORMATION:

Background

On May 12, 1995, the Department published in the Federal Register the antidumping duty order on pure magnesium from the PRC. See Notice of Antidumping Duty Orders: Pure Magnesium From the People's Republic of China, the Russian Federation and Ukraine, 60 FR 25691 (May 12, 1995). Therefore, May is the anniversary month and a request for a new shipper review is timely filed if made during the six month period ending with the anniversary month. See 19 CFR 351.214(d). On May 21, 2009, we received a new shipper review request from an exporter, Tianjin Xiangghaiqi Resources Import & Export Trade Co., Ltd. (“TXR”). On May 28, 2009, TXR submitted a certification from the manufacturer of its subject merchandise, Pan Asia Magnesium Co., Ltd. (“PAM”), certifying that PAM's export activities are not controlled by the government of the PRC. Furthermore, on June 1, 2009, TXR submitted corrections to its May 21, 2009, new shipper review request.

Pursuant to section 751(a)(2)(B)(i)(I) of the Tariff Act of 1930, as amended (the “Act”), and 19 CFR 351.214(b)(2)(ii)(A), TXR certified that it did not export pure magnesium to the United States during the period of investigation (“POI”). In addition, pursuant to section 751(a)(2)(B)(i)(I) of the Act and 19 CFR 351.214(b)(2)(ii)(B), PAM, the producer of the pure magnesium exported by TXR, provided a certification that it did not export the subject merchandise to the United States during the POI. In addition, pursuant to section 751(a)(2)(B)(i)(II) of the Act and 19 CFR 351.214(b)(2)(iii)(A), TXR and PAM certified that, since the initiation of the investigation, both have never been affiliated with any exporter or producer who exported pure magnesium to the United States during the POI, including those not individually examined during the investigation. As required by 19 CFR 351.214(b)(2)(iii)(B), TXR and PAM also certified that their export activities were not controlled by the central government of the PRC.

In addition to the certifications described above, pursuant to 19 CFR 351.214(b)(2)(iv), TXR submitted documentation establishing the following: (1) The date on which it first shipped pure magnesium for export to the United States; (2) the volume of its first shipment; (3) the date when subject merchandise entered the United States for consumption; and (4) the date of its first sale to an unaffiliated customer in the United States.

The Department requested a U.S. Customs and Border Protection (“CBP”) database query for the purpose of substantiating that TXR's shipment of subject merchandise had entered the United States for consumption and that liquidation of such entries had been properly suspended for antidumping duties. The Department reviewed the CBP data and was able to verify that TXR's shipment of subject merchandise had entered the United States for consumption and that liquidation of such entries had been properly suspended for antidumping duties.

Initiation of New Shipper Review

Pursuant to section 751(a)(2)(B) of the Act and 19 CFR 351.214, we find that the request submitted by TXR meets the threshold requirements for initiation of a new shipper review for shipments of pure magnesium from the PRC manufactured by PAM and exported by TXR. See Memorandum to the File, dated June 8, 2009, regarding TXR's NSR Initiation Checklist.

The POR is May 1, 2008, through April 30, 2009. See 19 CFR 351.214(g)(1)(i)(A). We intend to issue preliminary results of this review no later than 180 days from the date of initiation, and final results of this review no later than 270 days from the date of initiation. See section 751(a)(2)(B)(iv) of the Act and 19 CFR 351.214(h)(i)(1).

On August 17, 2006, the Pension Protection Act of 2006 (“H.R. 4”) was signed into law. Section 1632 of H.R. 4 temporarily suspends the authority of the Department to instruct U.S. CBP to collect a bond or other security in lieu of a cash deposit in new shipper reviews during the period April 1, 2006, through June 30, 2009. Therefore, the posting of a bond or other security under section 751(a)(2)(B)(iii) of the Act in lieu of a cash deposit is not available in this case. Importers of pure magnesium manufactured by PAM and exported by TXR must continue to post cash deposits of estimated antidumping duties on each entry of subject merchandise at the current PRC-wide rate of 108.26 percent.

Interested parties that need access to proprietary information in this new shipper review should submit applications for disclosure under administrative protective order in accordance with 19 CFR 351.305 and 351.306.

This initiation and notice are published in accordance with section 751(a)(2)(B) of the Act and 19 CFR 351.214 and 351.221(c)(1)(i).

Dated: June 25, 2009.
John M. Andersen,
Acting Deputy Assistant Secretary for Antidumping and Countervailing Duty Operations.

[FR Doc. E9-15488 Filed 6-29-09; 8:45 am]

BILLING CODE 3510-DS-P